DEPARTMENT OF ENERGY

10 CFR Parts 430 and 431

[Docket Number EERE-2016-BT-PET-0016]

Notice of Opportunity To Submit a Petition To Amend the Rule Establishing Procedures for Requests for Correction of Errors in Rules

AGENCY: Office of Energy Efficiency and Renewable Energy, Department of Energy.

ACTION: Opportunity to petition.

SUMMARY: Elsewhere in this issue of the Federal Register, the U.S. Department of Energy (“DOE” or the “Department”) publishes a final rule establishing a new procedure through which an interested party can, within a 30-day period after DOE posts a rule establishing or amending an energy conservation standard, identify a possible error in such a rule and request that DOE correct the error before the rule is published (“error correction rule”). By this notice, DOE provides an opportunity for the public to file petitions to amend the error correction rule.

DATES: DOE will use its best efforts to issue a public document by August 10, 2016, that responds to any petitions to amend the error correction rule that are submitted by June 6, 2016. DOE will consider comments on any petitions to amend the error correction rule submitted by June 6, 2016 if those comments are submitted by June 20, 2016.

ADDRESSES: To submit a petition to amend or a comment on a petition to amend in response to this notice, please email CorrectionPetition2016PET0016@ee.doe.gov. Petitions and comments will be entered into docket number EERE-2016-BT-PET-0016, which is available for review at http://www.regulations.gov. For further information on how to review the docket, contact Ms. Brenda Edwards at (202) 586-2945 or by email: Brenda.Edwards@ee.doe.gov.

FOR FURTHER INFORMATION CONTACT: Mr. John Cymbalsky, U.S. Department of Energy, Office of Energy Efficiency and Renewable Energy, Building Technologies Program, EE-5B, 1000 Independence Avenue SW., Washington, DC 20585-0121. Telephone: (202) 287-1692 or John.Cymbalsky@ee.doe.gov.

SUPPLEMENTARY INFORMATION: The Department publishes a final rule, elsewhere in this issue of the Federal Register, establishing a new procedure through which an interested party can, within a 30-day period after DOE posts a rule establishing or amending an energy conservation standard, identify a possible error in such a rule and request that DOE correct the error before the rule is published in the Federal Register.

The error correction rule will become effective 30 days after its publication in the Federal Register. DOE hereby provides notice to the public that the Department will accept petitions to amend the error correction rule and will use its best efforts to issue a public document by August 10, 2016, responding to any such petitions that are submitted by June 6, 2016.

Issued in Washington, DC, on April 29, 2016.
Kathleen B. Hogan,
Deputy Assistant Secretary for Energy Efficiency, Energy Efficiency and Renewable Energy.

[FR Doc. 2016-10463 Filed 5-4-16; 8:45 am]

BILLING CODE 6450-01-P